DEPARTMENT OF THE INTERIOR

National Park Service

[NPS-WASO-NRNHL-DTS#-38090; PPWOCRADI0, PCU00RP14.R50000]

National Register of Historic Places; Notification of Pending Nominations and Related Actions

AGENCY: National Park Service, Interior.

ACTION: Notice.

SUMMARY: The National Park Service is soliciting electronic comments on the significance of properties nominated before June 1, 2024, for listing or related actions in the National Register of Historic Places.

DATES: Comments should be submitted electronically by July 1, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 1, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

CALIFORNIA

Humboldt County

California Federation of Women's Clubs Grove Hearthstone, 0.28 miles southwest of Highway 254 (Avenue of the Giants), Weott, SG100010512

Los Angeles County

Los Feliz Village Multi-Family Residential Historic District, Both sides of Vermont Ave., from Franklin Ave. to Los Feliz Boulevard, Los Angeles, SG100010500

COLORADO

Chaffee County

First Baptist Church of Salida, 419 D Street, Salida, SG100010503

Pueblo County

Eighth Street Baptist Church, 600 W 8th Street, Pueblo, SG100010502

CONNECTICUT

Hartford County

Bloomfield Avenue Meeting House, 50 Bloomfield Avenue, Hartford, SG100010490

Middlesex County

D & H Scovil Industrial Historic District, 11 Candlewood Hill Rd, 11 and 12 Scovil Rd, 529 Brainerd Hill Rd., Haddam, SG100010491

FLORIDA

Madison County

Madison County Training School, (Florida's Historic Black Public Schools MPS), 1268 SW Martin Luther King Drive, Madison, MP100010496

Sarasota County

St. Paul Lutheran Church (Sarasota School of Architecture MPS), 2256 Bahia Vista Street, Sarasota, MP100010494

Seminole County

Nils M. and Beverly Schweizer House, 213 Wood Lake Drive, Maitland, SG100010495

LOUISIANA

East Baton Rouge Parish

East Baton Rouge Parish Library, 700 Laurel Street, Baton Rouge, SG100010507

Kean's Apartment Building, 158 West Chimes Street, Baton Rouge, SG100010510

Tangipahoa Parish

Hammond High School Gymnasium, 305 W Morris Avenue, Hammond, SG100010506

MARYLAND

Anne Arundel County

Corwell's Store, Corwell's Country Market, Johnson's Store, 166 Baltimore-Annapolis Boulevard, Severna Park, SG100010488

Harundale Presbyterian Church (Women In Maryland Architecture, 1920-1970 MPS), 1020 Eastway, Glen Burnie, MP100010493

MONTANA

Lewis and Clark County

Lewis and Clark County Hospital Historic District (Boundary Increase), North Benton Avenue between Chert Place and Flagstone Avenue, Helena, BC100010499

NEW HAMPSHIRE

Rockingham County

Kensington Town Center Historic District, Amesbury Road (NH Route 150), Kensington, SG100010487

NEW MEXICO

Bernalillo County

Five Points Community Church, 1534 Bridge Boulevard SW, Albuquerque, SG100010498

OHIO

Summit County

Merrill, Edwin H., House, 32 Fir Hill, Akron, SG100010492

An owner objection received for the following resource(s):

CALIFORNIA

Los Angeles County

6th Street Streetcar Commercial Historic District, parts of both sides of 6th Street, from Serrano Avenue to Manhattan Place, Los Angeles, SG100010501

Additional documentation has been received for the following resource(s):

MISSOURI

Greene County

Wilson's Creek National Battlefield, Address Restricted, Springfield vicinity, AD66000113

NEW MEXICO

Santa Fe County

Barrio de Analco Historic District (Additional Documentation), Roughly bounded by E. De Vargas and College Sts., Santa Fe, AD68000032

TENNESSEE

Davidson County

West Meade (Additional Documentation), 6204 Old Harding Pike, Nashville, AD75001750

Hamilton County

Conner Toll House (Additional Documentation), 4212 Anderson Pike, Signal Mountain vicinity, AD77001273

Maury County

Maguire, Patrick, House (Additional Documentation), 105 N James Campbell Blvd., Columbia, AD83004270

VERMONT

Caledonia County

Centre Covered Bridge (Additional Documentation), NE of Lyndon off U.S. 5, over Passumpsic River, Lyndon vicinity, AD74000204

Nomination(s) submitted by Federal Preservation Officers:

The State Historic Preservation Officer reviewed the following nomination(s) and responded to the Federal Preservation Officer within 45 days of receipt of the nomination(s) and supports listing the properties in the National Register of Historic Places.

MONTANA

Park County

Main Boulder Ranger Station, 2815 Main Boulder Rd., McLeod, SG100010504

Authority: Section 60.13 of 36 CFR part 60.

Sherry A. Frear,
Chief, National Register of Historic Places/National Historic Landmarks Program.

[FR Doc. 2024-13063 Filed 6-13-24; 8:45 am]

BILLING CODE 4312-52-P